DEPARTMENT OF TRANSPORTATION

Federal Aviation Administration

Aviation Rulemaking Advisory Committee; Transport Airplane and Engine Issues—New Task

AGENCY: Federal Aviation Administration (FAA) (DOT).

ACTION: Notice of new task assignment for the Aviation Rulemaking Advisory Committee (ARAC).

SUMMARY: The FAA assigned four new tasks to the Aviation Rulemaking Advisory Committee to develop recommendations that will broaden current regulations and advisory material to include state-of-the-art flightdeck displays and new technologies to aid flight crewmembers in decision making. This notice is to inform the public of this ARAC activity.

FOR FURTHER INFORMATION CONTACT: Mike Kaszycki, Federal Aviation Administration, Northwest Mountain Region Headquarters, 1601 Lind Avenue, SW., Renton, Washington, 98055; telephone: 425-227-2137; fax: 425-277-1320; e-mail: mike.kaszycki@faa.gov.

SUPPLEMENTARY INFORMATION:

Background

Problem

Title 14 Code of Federal Regulations § 25.1322 describes standards for the color of warning, caution, advisory, and other message lights that are installed as annunciation displays in the flightdeck. It addresses visual alerting cues only in the form of colored lights installed in the flightdeck. The regulation became effective February 1 1977 (Amendment No. 25-38, 41 FR 44567, December 20, 1976) and has never been amended. It does not consider the use of corresponding aural tones/voice and prioritization of multiple alerts that may occur at the same time. Nor, does it consider new technologies, other than colored lights, that may be more effective in aiding the flightcrew in decision making. Further, § 25.1322 is outdated, does not address safety concerns associated with today's display systems, and has resulted in additional work for applicants when showing compliance, and for the FAA when addressing new flightdeck designs and the latest display technologies via special conditions and issue papers.

Advisory Circular (AC) 25-11, Transport Category Airplane Electronic Display Systems, contains guidance for demonstrating compliance with § 25.1322. The scope of the AC, which was published July 16, 1987, is limited and pertains strictly to cathode ray tube (CRT) based electronic display systems used for guidance, control, or decision making by the flightcrew. The guidance is clearly outdated in view of the computer-based and other advanced technological instruments used in transport category airplanes today.

Any rule or advisory circulars that results from this action would affect all new transport airplanes that are certified to part 25/Joint Aviation Requirements 25 (JAR-25). Both the FAA and industry agree that § 25.1322 is not appropriate for the current or future flightdeck design and the technologies associated with visual and aural annunciations to the flightcrew. This outdated regulation results in a potentially significant effect on airplane design, product design and technical standard orders, system integration, airplane type certifications and supplemental type certifications, costs associated with certifications, and flightcrew operation on airplane safety.

Tasking Statement

For the problem described above, the FAA tasked the ARAC ¹ to:

1. Review and recommend revisions § 25.1322 that are necessary to bring the safety standards up-to-date; make the standards more appropriate for addressing current and future flightdeck design and technologies associated with visual and aural annunciation; and address prioritization of multiple alerts that may occur at the same time. At a minimum, the recommendations must consider airworthiness, safety, cost, recent certification and fleet experience, and harmonization of JAR 25.1322.

¹ In 1992, the FAA established the ARAC to provide advice and recommendations to the FAA Administrator on the agency's rulemaking activities with respect to aviation-related issues. This includes obtaining advice and recommendations on the FAA's commitments to harmonize Title 14 of the Code of Federal Regulations (14 CFR) with its partners in Europe and Canada.

2. Review the existing Advisory Circular Joint (ACJ) 25.1322 and determine if a harmonized AC 25.1322 should be developed.

3. Identify any rules or advisory circulars that may conflict with the revised rule to determine if changes should be developed and address the proposed changes to §§ 25.1309 and 25.1329 that pertain to alerting.

4. Recommend revisions to AC 25-11 and ACJ 25-11.

a. Review AC 25-11 and ACJ 25-11 to develop harmonized advisory material. The harmonized guidance material may be significantly different from the existing material, but it must not conflict with the harmonized § 25.1322 standard.

b. Coordinate with other harmonization working groups in revising the advisory material. The Human Factors HWG is currently working a similar activity and should be consulted to ensure that any revised material has appropriate input and influence from the human factors discipline. Review and revision of the powerplant-related sections of AC 25-11 should be delegated to the Powerplant Installation HWG. The Flight Test HWG should review the flight test related sections.

c. Prepare a “user needs analysis” that addresses some unique requirements that are not fully met by the current guidance. (For example, manufacturers and installers of liquid crystal display based systems are considered “users” whose needs may not currently be met.)

d. Review other advisory circulars (such as AC's/ACJ's for various systems) and other industry documents to understand their relevance to AC 25-11. Additionally, recent industry activities have produced materials (for example, Aviation Recommended Practices) that may be useful in developing the harmonized AC.

e. Recommend a format of the advisory circulars that can accommodate future changes. The current AC/ACJ format is not conducive to additions as new systems are developed, new functions are identified, and new technologies are employed. The revised harmonized AC/ACJ should be formatted to accommodate future changes.

For each task, ARAC is to review airworthiness, safety, cost, and other relevant factors, including recent certification and fleet experience. ARAC will submit a report to the FAA (format and content to be determined by the FAA) that recommends revisions to the regulation, including cost estimates, and outlines the information and background for the advisory circulars.

If a notice of proposed rulemaking or notices of proposed advisory circulars are published for public comment as a result of the recommendations, ARAC may be further asked to review all comments received and provide the FAA with a recommendation for disposition of public comments for each project.

Schedule: The report and draft advisory circular is to be completed no later than 24 months after the FAA publishes the tasks in the Federal Register.

ARAC Acceptance of Tasks

ARAC accepted and assigned the task to the Avionics Systems Harmonization Working Group. The working group serves as staff to ARAC and assists in the analysis of the assigned task. ARAC must review and approve each working group's recommendations. If ARAC accepts the working group's recommendations, it will forward them to the FAA. Recommendations that are received from ARAC will be submitted to the agency's Rulemaking Management Council to address the availability of resources and prioritization.

Working Group Activity

The Avionics System Harmonization Working Group must comply with the procedures adopted by ARAC. As part of the procedures, the working group must:

1. Recommend a work plan for completing each task, including the rationale supporting such a plan for consideration at the October 15-16, 2002, meeting of the ARAC on transport airplane and engine issues.

2. Give a detailed conceptual presentation of the proposed recommendations before proceeding with the work stated in item 3.

3. Draft the appropriate documents and required analyses and/or any other related materials or documents.

4. Provide a status report at each ARAC meeting on transport airplane and engine issues.

Participation in the Working Group

The Avionics Systems Harmonization Working Group is composed of technical experts having an interest in the assigned tasks. A working group member need not be a representative or a member of the full committee.

An individual who has expertise in the subject matter and wishes to become a member of the working group should write to the person listed under the caption FOR FURTHER INFORMATION CONTACT expressing that desire, describing his or her interest in the task, and stating the expertise he or she would bring to the working group. All requests to participate must be received no later than (1 month after publication of the tasking statement). The requests will be reviewed by the assistant chair, the assistant executive director, and the working group co-chairs. Individuals will be advised whether their request can be accommodated.

Individuals chosen for membership on the working group must represent their aviation community segment and actively participate in the working group (e.g., attend all meetings, provide written comments when requested to do so, etc.). They must devote the resources necessary to support the working group in meeting any assigned deadlines. Members are expected to keep their management chain and those they may represent advised of working group activities and decisions to ensure the proposed technical solutions do not conflict with their sponsoring organization's position when the subject being negotiated is presented to ARAC for approval.

Once the working group has begun deliberations, members will not be added or substituted without the approval of the assistant chair, the assistant executive director, and the working group co-chairs.

The Secretary of Transportation determined that the formation and use of the ARAC is necessary and in the public interest in connection with the performance of duties imposed on the FAA by law.

Meetings of the ARAC will be open to the public. Meetings of the Avionics Systems Harmonization Working Group will not be open to the public, except to the extent that individuals with an interest and expertise are selected to participate. The FAA will make no public announcement of working group meetings.

Issued in Washington, DC, on April 11, 2002.
Anthony F. Fazio,
Executive Director, Aviation Rulemaking Advisory Committee.

[FR Doc. 02-9947 Filed 4-22-02; 8:45 am]

BILLING CODE 4910-13-M